Proclamation 9940 of September 30, 2019

National Substance Abuse Prevention Month, 2019

By the President of the United States of America

A Proclamation

Across our country, far too many families and communities have felt the devastation wrought by substance abuse. As we observe National Substance Abuse Prevention Month, we remember all who have been lost to this affliction and reaffirm our commitment to ensuring the health and safety of our fellow Americans. Together, we will overcome this tragic crisis gripping our Nation and guarantee that future generations know the blessings of a drug-free life.

One of the most pressing challenges we are facing is how to overcome the opioid crisis in our Nation. From 1999 to 2017, our national family lost more than 399,000 loved ones to opioid overdoses. I am heartened to share that recent data shows a projected decrease of 4 percent in overdose deaths in the United States from 2017 to 2018, and many of our hardest-hit States and counties may see even more significant declines. While we have made progress in our fight, the illicit opioids, heroin, fentanyl, and methamphetamine flooding our communities continue to fuel addiction and destroy the lives of countless Americans.

My Administration is unwavering in our mission to reverse the negative consequences of drug trafficking and abuse, save American lives, and set our Nation on a path to becoming stronger, healthier, and drug-free. In January, we released the National Drug Control Strategy, which focused largely on prevention. The Strategy details a multifaceted approach that will reduce abuse by educating the public, increasing the availability of treatment programs, and halting the influx of these poisons into our communities. As President, I will never waver from my sacred duty to defend our Nation and will continue fighting to protect our citizens from the scourge of addiction.

To better enable all communities to overcome the grip of addiction, we are allocating critical resources to fight this epidemic on the front lines. Just last month, my Administration distributed nearly $2 billion in funding to State and local partners across America to assist in their response to the crisis. We have established grants to help schools implement more effective prevention programs and invested more than ever before in our 731 Drug-Free Community coalitions across all 50 States, bringing together partners to help prevent youth drug abuse. Additionally, my Administration's Fiscal Year 2020 National Drug Control Budget requests a record $34.6 billion for counter-drug efforts, a $1.3 billion increase from the previous year. These resources enable States, localities, and tribal communities to provide innovative and important services to prevent and combat substance abuse.

This month, we renew our resolve to prevent the further loss of life and prosperity caused by these problems and to finally eliminate the blight of addiction from America. Together, we will guarantee our resilient country emerges from this crisis into a future free from substance abuse.

NOW, THEREFORE, I, DONALD J. TRUMP, President of the United States of America, by virtue of the authority vested in me by the Constitution and the laws of the United States, do hereby proclaim October 2019 as National Substance Abuse Prevention Month. Through our united efforts to prevent the damaging effects of substance abuse, we will ensure a happier, healthier, and more prosperous future. I call on parents, educators, mentors, employers, healthcare professionals, law enforcement officials, faith and community leaders, and all Americans to join me in the fight to finally resolve this crisis.

IN WITNESS WHEREOF, I have hereunto set my hand this thirtieth day of September, in the year of our Lord two thousand nineteen, and of the Independence of the United States of America the two hundred and forty-fourth.

[FR Doc. 2019-21766

Filed 10-2-19; 11:15 am]

Billing code 3295-F0-P